INTERNATIONAL TRADE COMMISSION

[Investigation No. NAFTA-103-13]

Woven Cotton Boxer Shorts: Probable Effect of Modification of NAFTA Rules of Origin for Goods of Canada and Mexico

AGENCY: United States International Trade Commission.

ACTION: Correction of HTS subheading number in original notice.

DATES: Effective Date: February 7, 2006.

SUMMARY: The notice of institution of this investigation published in the Federal Register of February 2, 2006 (71 FR 5687) incorrectly listed one of the HTS subheading numbers. The correct HTS subheading number is 6207.1100, not 6207.1000. All other information in the notice remains the same.

FOR FURTHER INFORMATION CONTACT: Information may be obtained from Laura V. Rodriguez, Office of Industries (202-205-3499, laura.rodriguez@usitc.gov). The public record for this investigation may be viewed on the Commission's electronic docket (EDIS) http://edis.usitc.gov. Hearing impaired individuals may obtain information on this matter by contacting the Commission's TDD terminal on 202-205-1810. Persons with mobility impairments who will need special assistance in gaining access to the Commission should contact the Office of the Secretary at 202-205-2000.

List of Subjects: NAFTA, rules of origin, fabrics, boxer shorts.

By order of the Commission.
Issued: February 7, 2006.
Marilyn R. Abbott,
Secretary to the Commission.

[FR Doc. E6-1979 Filed 2-10-06; 8:45 am]

BILLING CODE 7020-02-P